DEPARTMENT OF HEALTH AND HUMAN SERVICES

Centers for Disease Control and Prevention

[Request for Application (RFA) 05076]

National Training and Mentoring Program To Strengthen Voluntary Counseling and Testing (VCT) Programs in Malawi; Notice of Intent To Fund Single Eligibility Award

A. Purpose

The Centers for Disease Control and Prevention (CDC) announces the intent to fund fiscal year (FY) 2005 funds for a cooperative agreement program to strengthen voluntary counseling and testing (VCT) services in Malawi by providing financial and technical assistance for the development and implementation of a national VCT training and post-training mentoring program in Malawi. The Catalog of Federal Domestic Assistance number for this program is 93.067.

B. Eligible Applicant

This program has only one eligible applicant, Malawi AIDS Counseling Resource Organization (MACRO) in Lilongwe, Malawi. No other applications will be considered. MACRO is a non-profit, non-governmental organization (NGO), which has been providing VCT services in all three major regions of Malawi for more than five years. No other NGO has services reaching all the major regions of the country. The annual patient volume for MACRO services ranges from 45,000 to 50,000, which is well beyond any other service provider, including the Ministry of Health (MOH). This NGO also is the only organization in Malawi, which has VCT sites that are physically large enough to accommodate the practical sessions for 20 course participants in all three regions of the country.

MACRO has five experienced counselors that have already attended training of trainers (TOT) courses for CT. This is more than any other VCT service provider in Malawi. The recipient of this cooperative agreement as a training organization will also be expected to serve as a model provider of VCT services. MACRO's VCT sites have been visited and certified by the MOH, and MACRO has in place a program to ensure quality of VCT services at its sites. MACRO is currently called upon to provide CT training for MOH counselors and other organizations in Malawi. The organization is currently serving as the largest de facto provider of CT training in Malawi. Unfortunately, these training requests divert experienced counselors from their normal duties as service delivery providers. This cooperative agreement will assist MACRO in establishing and maintaining the capacity to carry out a formal, well-organized national training and mentoring program without diverting its service delivery resources. It will also support the national expansion of VCT services at a critical time in the scale-up of anti-retroviral (ART) in Malawi.

C. Funding

Approximately $175,000 is available in FY 2005 to fund this award. It is expected that the award will begin on or before July 1, 2005, and will be made for a 12-month budget period within a project period of up to 3 years. Funding estimates may change.

D. Where To Obtain Additional Information

For general comments or questions about this announcement, contact: Technical Information Management, CDC Procurement and Grants Office, 2920 Brandywine Road, Atlanta, GA 30341-4146, Telephone: 770-488-2700.

For program technical assistance, contact: Margarett Davis, MD, MPH, Project Officer, Kang'ombe Building 8 West, City Centre, Lilongwe 3, Malawi, Telephone: 265-1-775-188, E-mail: MDavis@cdcmw.org.

For financial, grants management, or budget assistance, contact: Shirley Wynn, Contract Specialist, CDC Procurement and Grants Office, 2920 Brandywine Road, Atlanta, GA 30341, Telephone: 770-488-1515, E-mail: zbx6@cdc.gov.

Dated: April 26, 2005.
William P. Nichols,
Acting Director, Procurement and Grants Office, Centers for Disease Control and Prevention.

[FR Doc. 05-8747 Filed 5-2-05; 8:45 am]

BILLING CODE 4163-18-P